DEPARTMENT OF COMMERCE

National Oceanic and Atmospheric Administration

RIN 0648-XD648

Pacific Island Fisheries; Stock Assessment Review; Public Meeting

AGENCY: National Marine Fisheries Service (NMFS), National Oceanic and Atmospheric Administration (NOAA), Commerce.

ACTION: Notice of public meeting.

SUMMARY: NMFS will convene a meeting to review a draft 2014 stock assessment update for main Hawaiian (MHI) Deep 7 bottomfish.

DATES: The meeting will be held on Tuesday, December 9, through Friday, December 12, 2014, starting at 9 a.m. each day. The meeting will conclude each day at 4 p.m., or when business for the day has been completed. See SUPPLEMENTARY INFORMATION for the daily meeting agenda.

ADDRESSES: On Tuesday, December 9, and Wednesday, December 10, 2014, the meeting will be held at the NMFS Honolulu Service Center at Pier 38, 1129 N. Nimitz Hwy., Suite 220, Honolulu, HI 96817. On Thursday, December 11, and Friday, December 12, 2014, the meeting will be held at the University of Hawaii Campus Center, 2465 Campus Road, Honolulu, HI 96822.

FOR FURTHER INFORMATION CONTACT: Gerard Dinardo, NMFS Pacific Islands Fisheries Science Center, telephone: (808) 725-5397.

SUPPLEMENTARY INFORMATION: The purpose of this meeting is to review a draft 2014 stock assessment update for MHI Deep 7 bottomfish, which uses up-to-date re-audited bottomfish catch and effort data from Hawaii state commercial catch reports for the years 1948-2013. This assessment update used the previous benchmark assessment data analysis, modeling, and stock projection approaches with improved CPUE standardization.

At this meeting, a team of reviewers provided by the Center for Independent Experts or CIE (www.ciereviews.org) will review the assessment methods, input data and parameters, including the adequacy of the model and model outputs, and suggest research priorities to improve understanding of essential population and fishery dynamics. We invite the public to attend this meeting to provide information and clarification if requested by the CIE reviewers.

Meeting Agenda

Tuesday, December 9, 2014

1. Introduction

2. Background Information—Objectives and Terms of Reference

3. Fishery

a. Fishery Operations

b. Fishery Management

4. Data

a. State of Hawaii System

b. Biological Data

c. Other Data

Wednesday, December 10, 2014

5. Review of Stock Assessment

Thursday, December 11, 2014

6. Continue Review of Assessment

7. Panel Discussions (session closed to public)

Friday, December 12, 2014

8. Panel Discussions (session closed to public)

9. Review Panel Reports on Findings and Recommendations

10. Adjourn

The order in which agenda items are addressed may change. The meetings will run as late as necessary to complete scheduled business.

Special Accommodations

This meeting is physically accessible to people with disabilities. Requests for sign language interpretation or other auxiliary aids should be directed to Gerard Dinardo, NMFS Pacific Islands Fisheries Science Center, (808) 725-5397 (voice) or (808) 725-5475 (fax), at least 5 days prior to the meeting date.

Authority: 16 U.S.C. 1801 et seq.

Dated: November 28, 2014.
Alan D. Risenhoover,
Director, Office of Sustainable Fisheries, National Marine Fisheries Service.

[FR Doc. 2014-28447 Filed 11-28-14; 4:15 pm]

BILLING CODE 3510-22-P